DEPARTMENT OF COMMERCE

National Oceanic and Atmospheric Administration

[RTID 0648-XE766]

Taking and Importing Marine Mammals; Taking Marine Mammals Incidental to Construction of the Alaska LNG Project in Cook Inlet, Alaska

AGENCY: National Marine Fisheries Service (NMFS), National Oceanic and Atmospheric Administration (NOAA), Commerce.

ACTION: Notice; receipt of application for regulations and a Letter of Authorization; request for comments and information.

SUMMARY: NMFS has received a request from 8 Star Alaska, LLC (8 Star Alaska), a subsidiary of the Alaska Gasline Development Corporation (AGDC), for authorization to take small numbers of marine mammals incidental to construction of the Alaska LNG Project in Cook Inlet, Alaska over the course of 5 years beginning on January 1, 2026. Pursuant to regulations implementing the Marine Mammal Protection Act (MMPA), NMFS is announcing receipt of 8 Star Alaska's request for the development and implementation of regulations governing the incidental taking of marine mammals and associated Letter of Authorization (LOA). NMFS invites the public to provide information, suggestions, and comments on 8 Star Alaska's application and request.

DATES: Comments and information must be received no later than May 8, 2025.

ADDRESSES: Comments on the applications should be addressed to Jolie Harrison, Chief, Permits and Conservation Division, Office of Protected Resources, National Marine Fisheries Service and should be submitted via email to itp.jacobus@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-other-energy-activities-renewable without change. All personal identifying information (e.g., name, address) voluntarily submitted by the commenter may be publicly accessible. Do not submit confidential business information or otherwise sensitive or protected information.

An electronic copy of 8 Star Alaska's application may be obtained online at: https://www.fisheries.noaa.gov/national/marine-mammal-protection/incidental-take-authorizations-other-energy-activities-renewable. In case of problems accessing these documents, please call the contact listed below.

FOR FURTHER INFORMATION CONTACT: Kristy Jacobus, Office of Protected Resources, NMFS, (301) 427-8401.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On December 5, 2024, NMFS received an application from 8 Star Alaska requesting authorization for take of marine mammals incidental to pile driving and anchor handling activities related to construction of the Alaska LNG Project in Cook Inlet, Alaska. Following NMFS' review of the application, 8 Star Alaska submitted a revised application on April 3, 2025. The application was deemed adequate and complete on April 3, 2025. The requested regulations would be valid for 5 years, from January 1, 2026 through December 31, 2030. 8 Star Alaska plans to conduct necessary work, including impact and vibratory pile driving and anchor handling, to construct facilities and lay pipes for the Alaska LNG Project. AGDC has determined that these activities may result in the take, by Level A and Level B harassment, of marine mammals. Therefore, 8 Star Alaska requests authorization to incidentally take marine mammals.

Specified Activities

8 Star Alaska proposes to construct facilities to transport and offload liquefied natural gas (LNG) in Cook Inlet, Alaska for export. The project would include construction of a marine terminal, consisting of a product loading facility and a temporary material offloading facility, on the east side of Cook Inlet near Nikiski, a mainline material offloading facility on the west side of Cook Inlet, and a mainline, a 42-inch (1.1 meter (m)) diameter natural gas pipeline, across Cook Inlet. The marine terminal and mainline material offloading facility would consist of 158 48-inch (1.2 m) steel pipe piles, 73 24-inch (0.6 m) steel pipe piles, 200 60-inch (1.5 m) steel pipe piles, and 6,646 feet (2,025.7 m) of sheet pile installed using impact and vibratory pile driving. This work is expected to occur on 324 days over the 5-year period. The mainline would be laid on the seafloor across Cook Inlet using conventional pipelay vessel methods described in the application. The pipelay vessel would employ anchors to keep it positioned during pipelay and anchor handling attendant tugs would be used to repeatedly reposition the anchors. Anchor handling is expected to occur over approximately 76 days during Years 3 and 4 of the LOA effective period.

Information Solicited

Interested persons may submit information, suggestions, and comments concerning 8 Star Alaska's request (see ADDRESSES). NMFS will consider all information, suggestions, and comments related to the request during the development of proposed regulations governing the incidental taking of marine mammals by 8 Star Alaska, if appropriate.

Dated: April 3, 2025.
Kimberly Damon-Randall,
Director, Office of Protected Resources, National Marine Fisheries Service.

[FR Doc. 2025-06028 Filed 4-7-25; 8:45 am]

BILLING CODE 3510-22-P